DEPARTMENT OF TRANSPORTATION

Office of the Secretary

Notice of Applications for Certificates of Public Convenience and Necessity and Foreign Air Carrier Permits Filed Under Subpart B (Formerly Subpart Q) During the Week Ending November 15, 2014

The following Applications for Certificates of Public Convenience and Necessity and Foreign Air Carrier Permits were filed under Subpart B (formerly Subpart Q) of the Department of Transportation's Procedural Regulations (See 14 CFR 302. 201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0194.

Date Filed: November 12, 2014.

Due Date for Answers, Conforming Applications, or Motion to Modify Scope:December 3, 2014.

Description

Application of Northern Air Cargo, Inc. (“NAC”) requesting a blanket open skies certificate of public convenience and necessity that will allow NAC to provide scheduled foreign air transportation of property and mail between the United States and all countries with which the United States has entered into an open skies agreement, as well as any country with which the United States may in the future entered into an open skies agreement, once the agreement is being applied by both countries. NAC also requests on an expedited basis a corresponding exemption authorizing NAC to provide the services described above pending issuance of a certificate of public and necessity.

Docket Number: DOT-OST-2014-0195.

Date Filed: November 13, 2014.

Due Date for Answers, Conforming Applications, or Motion to Modify Scope:December 4, 2014.

Description

Application of WestJet Encore Limited (“WestJet Encore”) requesting a foreign air carrier permit to the full extent authorized by the Air Transport Agreement between the Government of the United States of America and the Government of Canada in order to engage in: (i) Scheduled foreign air transportation of persons, property and mail from points behind Canada via Canada and intermediate points to a point or points in the United States and beyond; (ii) charter foreign air transportation of persons, property and mail from any point or points in Canada and any point or points in the United States and any point or points in a third country or countries, provided that, except with respect to cargo charters, such service constitutes part of a continuous operation, with or without a change of aircraft, that includes service to Canada for the purpose of carrying local traffic between Canada and the United States; and (iii) other charter transportation pursuant to the prior approval requirements. WestJet Encore further requests exemption authority to the extent necessary to enable it to provide the services described above pending issuance of a foreign air carrier permit and such additional or other relief as the Department may deem necessary or appropriate. It also requests a statement of authorization to the extent necessary to enable WestJet Encore to operate U.S.-Canada transborder service on behalf of WestJet under the “WestJet” name.

Barbara J. Hairston,
Supervisory Dockets Officer, Docket Operations, Federal Register Liaison.

[FR Doc. 2015-03548 Filed 2-20-15; 8:45 am]

BILLING CODE 4910-9X-P